DEPARTMENT OF DEFENSE

Defense Acquisition Regulations System

48 CFR Parts 212 and 252

[Docket DARS-2024-0001]

Defense Federal Acquisition Regulation Supplement; Technical Amendments

AGENCY: Defense Acquisition Regulations System, Department of Defense (DoD).

ACTION: Final rule; technical amendment.

SUMMARY: DoD is amending the Defense Federal Acquisition Regulation Supplement (DFARS) to make needed editorial changes.

DATES: Effective August 15, 2024.

FOR FURTHER INFORMATION CONTACT: Ms. Jennifer D. Johnson, Defense Acquisition Regulations System, telephone 703-717-8226.

SUPPLEMENTARY INFORMATION: This final rule amends the DFARS to make needed editorial changes to correct mistakes regarding commercial services in DFARS 212.207; the mistakes were part of DFARS Case 2018-D066, Definition of “Commercial Item.” This final rule also corrects a typographical error in a solicitation provision.

List of Subjects in 48 CFR Parts 212 and 252

Government procurement.

Jennifer D. Johnson,
Editor/Publisher, Defense Acquisition Regulations System.

Therefore, the Defense Acquisition Regulations System amends 48 CFR part 252 as follows:

1. The authority citation for 48 CFR part 252 continues to read as follows:

Authority: 41 U.S.C. 1303 and 48 CFR chapter 1.

PART 212—ACQUISITION OF COMMERCIAL PRODUCTS AND COMMERCIAL SERVICES

212.207 [Amended]

2. Amend section 212.207—

a. In paragraph (b) introductory text by removing “commercial products and”; and

b. In paragraph (b)(iii)(A) by removing “paragraph (1)” and adding “paragraph (2)” in its place.

PART 252—SOLICITATION PROVISIONS AND CONTRACT CLAUSES

3. Amend section 252.215-7010 in Alternate I—

a. By revising the provision date; and

b. In paragraph (d)(1) by removing “237.7002(e)” and adding “234.7002(e)” in its place.

The revision reads as follows:

252.215-7010 Requirements for Certified Cost or Pricing Data and Data Other Than Certified Cost or Pricing Data.

* * * * *

Requirements for Certified Cost or Pricing Data and Data Other Than Certified Cost or Pricing Data—Alternate I (Aug 2024)

* * * * *

[FR Doc. 2024-18109 Filed 8-14-24; 8:45 am]

BILLING CODE 6001-FR-P